CONSUMER PRODUCT SAFETY COMMISSION

Sunshine Act Meeting Notice

TIME AND DATE: Wednesday, June 29, 2011, 10 a.m.-12 Noon.

PLACE: Room 420, Bethesda Towers, 4330 East West Highway, Bethesda, Maryland.

STATUS: Commission Meeting—Open to the Public

Matters To Be Considered: 1. Decisional Matter: Final 15(j) Rule for Drawstrings.

2. Briefing Matter: Lead 100 ppm.

A live Web cast of the Meeting can be viewed at http:www.cpsc.gov/webcast. For a recorded message containing the latest agenda information, call (301) 504-7948.

Contact Person for More Information: Todd A. Stevenson, Office of the Secretary, U.S. Consumer Product Safety Commission, 4330 East West Highway, Bethesda, MD 20814, (301) 504-7923.

Dated: June 22, 2011.
Todd A. Stevenson,
Secretary.

[FR Doc. 2011-16017 Filed 6-22-11; 4:15 pm]

BILLING CODE 6355-01-P